FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

MSL Global Logistics Inc., 160-19 Rockaway Blvd., Jamaica, NY 11434, Officers: Chester Tong, President (Qualifying Individual), Lily Tong, Vice President.

Neway Logistics, Inc., 5959 W. Century Blvd., #557, Los Angeles, CA 90045, Officers: Seung Y. Cha (Kevin Cha), President/CEO (Qualifying Individual), Sue Cha, Chairman.

Non-Vessel Operating Common Carrier and Ocean Freight Forwarder Transportation Intermediary Applicants

Dip Shipping Company, 3550 Grandlake Street, Apt. E-203, Kenner, LA 70065, Officer: Roberto Dip, President (Qualifying Individual).

Venture Logistics, 10820 NW. 30 Street, Miami, FL 33172, Officers: Anly Fernandez, Traffic Manager (Qualifying Individual), Otto Ortega, President/Director.

Dated: November 28, 2003.
Karen V. Gregory,
Acting Assistant Secretary.

[FR Doc. 03-30128 Filed 12-2-03; 8:45 am]

BILLING CODE 6730-01-P